ENVIRONMENTAL PROTECTION AGENCY

[FRL-8038-8]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 2195.02; Submission of Protocols and Study Reports for Environmental Research Involving Human Subjects (Final Rule); was approved 01/26/2006; OMB Number 2070-0169; expires 01/31/2009.

EPA ICR No. 1601.06; Air Pollution Regulations for Outer Continental Shelf Activities (Renewal); in 40 CFR part 55; was approved 01/24/2006; OMB Number 2060-0249; expires 01/31/2009.

EPA ICR No. 0664.08; NSPS for Bulk Gasoline Terminals (Renewal); in 40 CFR part 60, subpart XX; was approved 01/24/2006; OMB Number 2060-0006; expires 01/31/2009.

EPA ICR No. 1557.06; NSPS for Municipal Solid Waste Landfills (Renewal); in 40 CFR part 60, subpart WWW; was approved 01/24/2006; OMB Number 2060-0220; expires 01/31/2009.

EPA ICR No. 0746.06; NSPS for Calciners and Dryers in Mineral Industries (Renewal); in 40 CFR part 60, subpart UUU); was approved 01/24/2006; OMB Number 2060-0251; expires 01/31/2009.

EPA ICR No. 1811.05; NESHAP for Polyether Polyol Production; in 40 CFR part 63, subpart PPP; was approved 01/11/2006; OMB Number 2060-0415; expires 01/31/2009.

EPA ICR No. 1789.05; NESHAP for Natural Gas Transmission and Storage (Renewal); in 40 CFR part 63, subpart HHH; was approved 01/11/2006; OMB Number 2060-0418; expires 01/31/2009.

EPA ICR No. 1656.12; Risk Management Program Requirements and Petitions to Modify the List of Regulated Substances under Section 112(r) of the Clean Air Act (Renewal); in 40 CFR part 68; was approved 01/09/2006; OMB Number 2050-0144; expires 01/31/2009.

EPA ICR No. 1745.05; Criteria for Classification of Solid Waste Disposal Facilities and Practices (Renewal); in 40 CFR part 257, subpart B; was approved 01/09/2006; OMB Number 2050-0154; expires 01/31/2009.

EPA ICR No. 0262.11; RCRA Hazardous Waste Permit Application and Modification, Part A (Renewal); in 40 CFR 270.1(b) and (c), 40 CFR 270.11, 40 CFR 270.13, 40 CFR 270.70, 40 CFR 270.72; was approved 01/09/2006; OMB Number 2050-0034; expires 01/31/2009.

EPA ICR No. 1031.08; Recordkeeping and Reporting Requirements for Allegations of Significant Adverse Reactions to Human Health or the Environment (TSCA Section 8(c)); in 40 CFR part 717; was approved 01/09/2006; OMB Number 2070-0017; expires 01/31/2009.

EPA ICR No. 1775.04; Hazardous Remediation Waste Management Requirements (HWIR-Media) (Renewal); in 40 CFR 264.1(j)(1-13); 40 CFR part 270, subpart H; 40 CFR 264.554; was approved 01/09/2006; OMB Number 2050-0161; expires 01/31/2009.

EPA ICR No. 2171.01; Survey of Airport Deicing Operations; was approved 01/13/2006; OMB Number 2040-0267; expires 01/31/2009.

EPA ICR No. 2132.01; CAMEO Software Usability Evaluation Survey; was approved 02/08/2006; OMB Number 2050-0198; expires 02/28/2007.

EPA ICR No. 1361.10; Information Requirements for Boilers and Industrial Furnances: General Hazardous Waste Facility Standards, Specific Unit Requirements, and Part B Permit Application and Modifications Requirements (Renewal); in 40 CFR 264.12, 40 CFR 265.12, 40 CFR 264.13, 40 CFR 265.13, 40 CFR 264.15, 40 CFR 265.15, 40 CFR 264.16, 40 CFR 265.16, 40 CFR 264.17, 40 CFR 264.73, 40 CFR 265.73, 40 CFR 264.112, 40 CFR 265.112, 40 CFR 264.113, 40 CFR 265.113, 40 CFR 264.115, 40 CFR 265.115, 40 CFR 264.101, 40 CFR 264.142, 40 CFR 265.142, 40 CFR 264.143, 40 CFR 265.143, 40 CFR 264.147, 40 CFR 265.147, 40 CFR 264.149, 40 CFR 265.149, 40 CFR 264.150, 40 CFR 265.150, 40 CFR 261.38, 40 CFR 266, subpart H, 40 CFR 270.22, 40 CFR 270.30, 40 CFR 270.66, was approved 02/09/2006; OMB Number 2050-0073; expires 02/28/2009.

EPA ICR No. 0161.10; Foreign Purchaser Acknowledgment Statement of Unregistered Pesticides; in 40 CFR 168.75 and 40 CFR 168.85; was approved 02/08/2006; OMB Number 2070-0027; expires 02/28/2009.

EPA ICR No. 2207.01; Exchange Network Performance Survey; was approved 01/31/2006; OMB Number 2025-0006; expires 07/31/2006.

Short Term Extensions

EPA ICR No. 0261.14; Notification of Regulated Waste Activity; OMB Number 2050-0028; on 01/27/2006; OMB extend the expiration date through 04/30/2006.

Withdrawn

EPA ICR No. 2179.04; Recordkeeping and Periodic Reporting of the Production, Import, Recycling, Transshipment and Feedback Use of Ozone Depleting Substance (Proposed Rule to Amend the Critical Use Exemption); on 01/19/2006 EPA withdrew the ICR from OMB; OMB Number 2060-0564.

OMB Comment Filed

EPA ICR No. 1715.07; Proposed ICR Amendment for Rulemaking entitled “Lead; Renovation, Repair, and Painting Program (Proposed Rule); on 02/08/2006 OMB's action was “Comment filed and continue”; OMB Number 2070-0155.

Dated: February 17, 2006.
Oscar Morales,
Director, Collection Strategies Division.

[FR Doc. E6-2901 Filed 2-28-06; 8:45 am]

BILLING CODE 6560-50-P